DEPARTMENT OF JUSTICE

Antitrust Division

Notice Pursuant to the National Cooperative Research and Production Act of 1993—Center for Medical Interoperability, Inc.

Notice is hereby given that, on November 12, 2014, pursuant to section 6(a) of the National Cooperative Research and Production Act of 1993, 15 U.S.C. 4301 et seq. (“the Act”), Center For Medical Interoperability, Inc. (“The Center”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Center for Medical Interoperability, Inc., La Jolla, CA. The nature and scope of The Center's standards development activities are: Promoting healthcare and enhancing the quality of or access to healthcare by the public through the advancement of interoperability of medical devices and information systems.

Patricia A. Brink,
Director of Civil Enforcement, Antitrust Division.

[FR Doc. 2014-30672 Filed 12-30-14; 8:45 am]

BILLING CODE P